FEDERAL ELECTION COMMISSION

Sunshine Act Meeting

TIME AND DATE: Thursday, March 11, 2021 at 10:00 a.m.

PLACE: Virtual meeting. Note: Because of the COVID-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Interpretive Rule: Possible Use of Campaign Funds for Residential and Personal Security

Draft Advisory Opinion 2021-03: National Republican Senatorial Committee (NRSC) and National Republican Congressional Committee (NRCC)

Draft Advisory Opinion 2021-01: Aluminate, Inc.

Audit Division Recommendation Memorandum on Dr. Raul Ruiz for Congress (A19-03)

Audit Division Recommendation Memorandum on the Grassroots Victory PAC (A19-14)

Proposed Final Audit Report on the National Tooling & Machining Association (NTMA) Committee for a Strong Economy (A19-10)

Proposed Final Audit Report on Van Drew for Congress (A19-04)

Management and Administrative Matters

CONTACT PERSON FOR MORE INFORMATION: Judith Ingram, Press Officer, Telephone: (202) 694-1220.

Authority: Government in the Sunshine Act, 5 U.S.C. 552b.

Submitted: March 4, 2021.
Laura E. Sinram,
Acting Secretary and Clerk of the Commission.

[FR Doc. 2021-04906 Filed 3-5-21; 11:15 am]

BILLING CODE 6715-01-P